DEPARTMENT OF TRANSPORTATION

Maritime Administration

[Docket Number MARAD-2018-0088]

RIN 2133-ZA03

Centers of Excellence for Domestic Maritime Workforce Training and Education Designation Program Guidance: Proposed New Policy and Information Collection Request

AGENCY: Maritime Administration, DOT.

ACTION: Notice and request for comments.

SUMMARY: This notice provides interested parties with the opportunity to comment on the Maritime Administration's (MARAD) new program designating eligible and qualified training entities as Centers of Excellence for Domestic Maritime Workforce Training and Education (CoE). The National Defense Authorization Act of 2018 (the Act), provided the Secretary of Transportation with the discretionary authority to designate eligible and qualified entities as CoEs. CoE designations will serve to assist the maritime industry in obtaining and maintaining the highest quality workforce. On May 31, 2018, MARAD published a notice in the Federal Register seeking public comment regarding the development of a guide for applicants seeking CoE designation. MARAD received a total of eighteen comments which have been considered and are examined in the Supplementary Information section below. Now, MARAD is proposing to implement a voluntary program to identify and recommend qualified training providers for CoE designation. MARAD invites public comment on this new program and its application guidance.

DATES: Comments must be received on or before September 17, 2019. MARAD will consider comments filed after this date to the extent practicable.

ADDRESSES: You may submit comments identified by DOT Docket Number MARAD-2018-0088 by any of the following methods:

• Website/Federal eRulemaking Portal: Go to http://www.regulations.gov. Search “MARAD-2018-0088” and follow the instructions for submitting comments on the electronic docket site.

• Mail or Hand Delivery: Docket Management Facility, U.S. Department of Transportation, 1200 New Jersey Avenue SE, West Building, Room W12-140, Washington, DC 20590, between 9 a.m. and 5 p.m., Monday through Friday, except on Federal holidays.

Instructions: All submissions must include the agency name and docket number for this rulemaking.

Note: All comments received will be posted without change to http://www.regulations.gov including any personal information provided.

Docket: For access to the docket to read background documents or comments received, go to http://www.regulations.gov and search using “MARAD-2018-0088” or go to Room W12-401 of the Department of Transportation, 1200 New Jersey Avenue SE, Washington, DC, between 9 a.m. and 5 p.m., Monday through Friday, except Federal Holidays.

FOR FURTHER INFORMATION CONTACT: You may contact Nuns Jain, Maritime Administration, at 757-322-5801 or by electronic mail at Nuns.Jain@dot.gov. You may send mail to Nuns Jain at Maritime Administration, Building 19, Suite 300, 7737 Hampton Boulevard, Norfolk, VA 23505. If you have questions on viewing the Docket, call Docket Operations, telephone: 202-366-9317 or 202-366-9826.

SUPPLEMENTARY INFORMATION: Following the enactment of the National Defense Authorization Act of 2018, Public Law 115-91 (the “Act”), codified at 46 U.S.C. 54102, MARAD developed a procedure to recommend to the Secretary the designation of eligible institutions as Centers of Excellence for Domestic Maritime Workforce Training and Education (CoE). Pursuant to the Act, the Secretary of Transportation may designate certain eligible and qualified training entities as CoEs and may subsequently execute Cooperative Agreements with CoE designees. Authority to administer the CoE program is delegated to MARAD in 49 CFR 1.93(a).

Qualified training entities seeking to be designated as a CoE need to apply to MARAD. MARAD has developed this notice to provide interested parties with comprehensive agency guidance on how to apply for CoE designation and how the CoE program will be administered. Applications should include information to demonstrate that the applicant institution meets certain eligibility requirements, selection criteria, and qualitative attributes consistent with Section 3507 of the Act.

Accordingly, MARAD is now proposing to implement a voluntary CoE designation program to assist the maritime industry in obtaining and maintaining the highest quality workforce consistent with the criteria set forth in the Act. Once all comments are considered, MARAD will publish the final CoE Program Policy in the Federal Register and on its website- www.marad.dot.gov/CoE.

Prior Federal Action

As the first step in developing a CoE policy, MARAD issued a notice requesting comments on its proposed application process entitled Centers of Excellence for Domestic Maritime Workforce Training and Education, 83 FR 25109 (May 31, 2018). In response to the notice, we received 18 written comments summarized immediately below. The unabridged comments are available for review electronically at www.regulations.gov by searching DOT Docket Id “MARAD-2018-0088” or by visiting the DOT Docket, Room PL-401, 1200 New Jersey Avenue SE, Washington, DC, between 9 a.m. and 5 p.m., Monday through Friday, except for Federal Holidays.

Comments on the Notice

MARAD received comments from 13 different commenters proposing a total of 29 suggested changes and/or clarifications to our definitions section. Where not in conflict with the explicit language of the statute, we have made those recommended changes to our definitions.

MARAD received comments from 10 different commenters proposing a total of 19 suggested changes and/or clarifications to the eligibility criteria, designation criteria and designation attributes. We have made those recommended changes which were not in conflict with the explicit language of the statute.

MARAD received one comment recommending that the MARAD approval process for temporary use of training ships, as a form of specific federal assistance to designated CoEs under a Cooperative Agreement, include consultation with the relevant State Maritime Academy. Our approval process for third -party requests for use of training ships already includes this consultation with the relevant State Maritime Academy.

MARAD received one comment requesting clarifications regarding the timeline for the CoE application process and the application preparation time which would be provided to interested applicant training institutions. We have incorporated these clarifications.

MARAD received one comment recommending that a formal bonding of the competencies trained in industry and military is necessary to better crosswalk the skills of the workforce and serve the transition from military to mariner. We agree. The draft guide included a provision encouraging CoEs to award students credit for prior experience, including military service.

MARAD received one comment recommending the CoE designation renewal process like that of the Maryland Higher Education Commission (MHEC). This revised policy provides for annual CoE designations and does not include a renewal process.

MARAD received one comment inquiring if grant writers will be needed to prepare CoE applications. We do not expect that training institutions will need grant writers to prepare their CoE designation applications.

MARAD received one comment suggesting that electronic filing of applications using an enterable forms database will be the least burdensome method to evidence application qualification. We partially agree and have included provisions to encourage electronic submission of applications. However, we do not have the resources at this time to create an online CoE application form and online database.

MARAD received one comment recommending that institutional administration of the career programs offered should be simplified with standard format data entry facilitated by web-based and smart-phone technology to reduce administrative burden. We do not have the resources at this time to develop and implement such applications.

MARAD received one comment recommending that a MARAD website should be established to share CoE information, references, case studies and lessons learned. We agree and will establish a CoE section on the MARAD website.

MARAD received one comment recommending that MARAD compile and provide a particular set of labor data that specifically outlines the needs of the United States Maritime Industry. We do not have the resources at this time to implement this recommendation.

MARAD received one comment recommending that the CoE program be expanded, beyond the items specifically authorized by the statute, to include:

a. Development of maritime industry cluster maps to include central organizations such as shipyards, ports and harbors along with support businesses.

b. Development of expectations and incentives for public-private partnerships between state, maritime community, maritime industry, trade associations and foundations.

c. Provisions to include foreign investment.

We have noted the recommendations but do not have the resources at this time to implement them.

MARAD received and has noted two comments supporting other comments.

MARAD received one comment endorsing a particular training institution and nine comments providing background information about the commenters and/or their organizations. We have noted these comments. However, the government's designation decision will be based upon our evaluation of the information submitted in each application to demonstrate compliance with the designation criteria.

MARAD received one comment stating that the CoE program for afloat and ashore careers can help provide pathways and career technical education that sustains and improves the US maritime industries and economy. We agree.

MARAD received one comment from the Offshore Marine Service Association strongly supporting the CoE program as improving the competency of the maritime industry, providing better pathways to good-paying U.S. jobs and recognizing the important roles that Community Colleges and Technical Colleges play in this process. We agree.

MARAD received one comment which did not pertain to the CoE Federal Register Notice and requires no action on our part.

Proposed Policy

The agency is requesting public comment on the following proposed policy which describes the process through which MARAD proposes to exercise its discretionary authority to designate qualified applicants:

How To Be Designated a Center of Excellence for Domestic Maritime Workforce Training and Education

Introduction

The Secretary of Transportation, acting through the Maritime Administrator, may designate certain eligible and qualified training entities as Centers of Excellence for Domestic Maritime Workforce Training and Education (CoE) and may subsequently execute Cooperative Agreements with CoE designees. The Maritime Administration (MARAD) has developed the CoE Program to provide interested parties with comprehensive agency guidance on how best to apply for CoE designation. However, conformity with this CoE applicant guidance, except where explicit in the statute, is voluntary only. MARAD will review and consider all applications it receives and may contact applicants with questions to assist in reviewing their applications.

Eligible training entities seeking to be designated as a CoE are welcome to apply with MARAD. The application should include information to demonstrate that the applicant institution meets certain eligibility criteria, designation requirements, and attributes consistent with 46 U.S.C. 54102.

Key Terms

The following list of key terms are either directly taken from the statute or have been developed by MARAD and/or from comments received from the public during our earlier notice and comment period. The list is intended to assist applicants by providing context and insight into the approval process. If you believe that your institution qualifies for CoE designee status under an alternate interpretation or by qualifications not otherwise clearly articulated in the statute, please provide a cogent justification for any such alternative and it will be given due consideration during our review.

a. “Afloat Career” is a term developed by MARAD to mean a career as a merchant mariner compensated for service aboard a vessel in the U.S. Maritime Industry.

b. “Arctic” as explicitly stated in the statute means all United States and foreign territory north of the Arctic Circle and all United States territory north and west of the boundary formed by the Porcupine, Yukon, and Kuskokwim Rivers; all contiguous seas, including the Arctic Ocean and the Beaufort, Bering, and Chukchi Seas; and the Aleutian chain. [Section 112 of the Arctic Research and Policy Act of 1984, codified at 15 U.S.C. 4111];

c. “Ashore Career” is a term developed by MARAD to mean a shore-based compensated occupation in the United States Maritime Industry.

d. “Community or Technical College” is interpreted by MARAD to mean an institution of higher education that—

1. admits as regular students, persons who are beyond the age of compulsory school attendance, or are enrolled in a high school and concurrently are participating in a dual credit or similar program, in the State in which the institution is located or in an adjoining State or region; and

2. has primary focus on awarding Associate (or equivalent) degrees; and

3. provides an educational program that is acceptable for full credit toward a bachelor's or equivalent degree or that may culminate in a professional or technical certificate or credential, stackable certificates and credentials, and/or two- year degree;

e. “Maritime Training Center” is interpreted by MARAD to mean a training institution that

1. does not grant baccalaureate or higher levels of academic degree; and

2. is not a “Community or Technical College”; and

3. provides a structured program of training courses to prepare students and/or enhance their skills for Afloat Careers and/or Ashore Careers in the United States Maritime Industry.

f. “Mississippi River System” is interpreted by MARAD to mean the mostly riverine network of the United States which includes the Mississippi River, and all connecting waterways, natural tributaries and distributaries. The system includes the Arkansas, Illinois, Missouri, Ohio, Red, Allegheny, Tennessee, Wabash and Atchafalaya rivers. Important connecting waterways include the Illinois Waterway, the Tennessee-Tombigbee Waterway, and the Gulf Intracoastal Waterway;

g. “Operated by, or under the supervision of a State” is interpreted by MARAD to mean operated by or under the supervision of a public entity of a State government or one of its subdivisions, as well as, county governments, and city or local governments;

1. “operated by” a State is interpreted by MARAD to mean that the State controls or provides direct oversight to the Maritime Training Center through:

i. A State charter process, or other equivalent documents and system; and

ii. a State oversight body.

2. “under the supervision of a State” is interpreted by MARAD to mean that the State oversees in some manner the Maritime Training Center through:

i. Accreditation or similar review, validation, and approval by a public entity of the State government or one of its subdivisions as well as, county governments, and city or local governments; or

ii. Registration approval by a State Apprenticeship Agency (SAA), in accordance with 29 CFR part 29, of an apprenticeship program offered by the Maritime Training Center to qualified students from the public; or

iii. Other means which demonstrate to MARAD that the State is supervising the educational process for which a CoE designation is sought.

h. “State” is interpreted by MARAD to mean a State of the United States, the District of Columbia, Guam, Puerto Rico, the Virgin Islands, American Samoa, the Northern Mariana Islands, and any other territory or possession of the United States.

i. “United States Maritime Industry” is a term developed by MARAD that includes all segments of the maritime-related transportation system of the United States, both in domestic and foreign trade, coastal and inland waters, as well as non-commercial maritime activities, such as pleasure boating, marine sciences (including all scientific research vessels) and all of the industries that support such uses, including, but not limited to vessel construction and repair, vessel operations, ship logistics supply, berthing, port operations, port intermodal operations, marine terminal operations, vessel design, marine brokerage, marine insurance, marine financing, chartering, maritime-oriented supply chain operations, offshore industry and maritime-oriented research and development.

Applicant Information

1. Who is eligible to apply for designation as a Center of Excellence for Domestic Maritime Workforce Training and Education (CoE)?

Participation is entirely voluntary. Under the statute, an educational institution that provides training and education for the domestic maritime workforce is eligible to apply so long as it meets the following criteria:

a. An institution located in a State that borders on at least one of the following bodies of water:

1. Gulf of Mexico;

2. Atlantic Ocean;

3. Long Island Sound;

4. Pacific Ocean;

5. Great Lakes;

6. Mississippi River System;

7. Arctic; or

8. Gulf of Alaska.

b. The institution is either:

1. A Community or Technical College; or

2. A Maritime Training Center—

i. Operated by, or under the supervision of a State; and

ii. With a maritime training program in operation in its curriculum on 12/12/2017.

2. How does MARAD interpret the selection criteria for CoE designation?

I. Assuming no alternative qualifications are provided, MARAD will consider applicants eligible for designation if they can demonstrate compliance with all of the following criteria:

a. The academic programs offered by the institution include:

1. One or more Afloat Career preparation tracks in the United States Maritime Industry, and/or

2. One or more Ashore Career preparation tracks in the United States Maritime Industry.

b. Applicant institutions offering Afloat Career and/or Ashore Career tracks have been accredited as follows:

1. “Community or Technical Colleges” hold current accreditation of the institution from a Regional Accreditation Agency or a Nationally Recognized Agency on the list of Accrediting Agencies approved by the U.S. Department of Education.

2. “Maritime Training Centers” hold current accreditation—

i. either of the institution, from a Regional Accreditation Agency or a Nationally Recognized Agency on the list of Accrediting Agencies approved by the U.S. Department of Education; or

ii. of the maritime training program offered by the institution from:

A. the State Apprenticeship Agency (SAA) in accordance with 29 CFR part 29, or

B. the State's Department of Education or equivalent State agency, or

C. the United States Coast Guard (USCG), or

D. other appropriate external review body which is specifically authorized to review and validate post-secondary education programs and is acceptable to MARAD.

c. As applicable, maintain USCG approval for the merchant mariner training program and/or merchant mariner training course(s) offered by the institution.

d. Provide data and statistics to demonstrate institutional and/or program effectiveness. This should include, but is not limited to, recruitment data, past/current enrollment (trends), attrition rates, student program completion data, post-program job and placement statistics (to the extent available to the institution), and program effectiveness feedback from students, faculty, alumni, and other stakeholders.

e. As applicable, maintain authorization and/or endorsement of the program and/or course(s) by an applicable professional society or industry body (including, but not limited to Welding, Electrician, Electronics, Maritime Construction, Maritime Logistics, Maritime Systems, etc.) to issue industry accepted certifications that reflect professional recognition of the level of educational or technical skill achievement.

II. Additional factors to be considered may include the following qualitative attributes fostered by the institution:

a. Supporting workforce needs of the local, state, or regional economy;

b. Building Science, Technology, Engineering, and Math (STEM) competencies of local/future workforce through maritime programs to meet emerging local, regional, and national economic interests;

c. Promoting diversity and inclusion among the student body;

d. Offering a broad-based curriculum and stackable credentials where applicable;

e. Engaging and/or collaborating with the maritime industry including, but not limited to employers, associations, and other industry organizations or partners;

f. Engaging and/or collaborating with employer-led maritime training practices and programs through Sector Partnerships as authorized in the 2014 Workforce Innovation and Opportunity Act Section 3(26).

g. Engaging and/or collaborating with local and regional maritime high schools with maritime, maritime related, Career Technical Education (CTE) or STEM programs;

h. Engaging and/or collaborating with maritime academies and other institutions or organizations for advanced proficiency and higher education;

i. Conducting other significant domestic maritime workforce development related activities.

3. What agreement may MARAD execute with a designated CoE?

The Maritime Administrator, or designee, may enter into a cooperative agreement with a CoE to support maritime workforce training and education, including but not limited to efforts of the CoE to:

1. Recruit, admit and train students;

2. Recruit and train faculty;

3. Expand or enhance facilities;

4. Create new maritime career pathways;

5. Award students credit for prior experience, including military service;

6. Expand and improve employer-led maritime training practices and programs through the establishment of Sector Partnerships as authorized in the 2014 Workforce Innovation and Opportunity Act Section 3(26);

7. Conduct such other CoE activities that are determined by MARAD to further maritime workforce training and education.

4. What specific assistance may MARAD offer to a designated CoE under a Cooperative Agreement?

By entering into a cooperative agreement, MARAD may be able to offer the following types of assistance:

1. Donation of surplus equipment to CoEs that also meet the requirements of 46 U.S.C. 51103(b)(2)(C);

2. Temporary use of MARAD vessels and assets for indoctrination, training, and assistance, subject to availability and approval by MARAD and the Department of Defense when applicable. For any CoE requests relating to temporary use of a MARAD Training Ship operated by a State Maritime Academy, the MARAD approval process will include consultation with that Academy;

3. Availability of MARAD subject matter experts to address students when feasible; and

4. Funding, to the extent such funds are properly appropriated and made available for this purpose.

Implementation and Administration

MARAD will evaluate the applicant's supporting documentation and either approve or disapprove the request for designation. During the evaluation of the application and the supporting documentation. MARAD may request clarifications or additional information from the applicant. Upon approval, the Maritime Administrator or his/her designee will make a designation. MARAD will thereafter publish the CoE's name and contact information on its website. After issuance of the designation, MARAD may enter into a cooperative agreement with the CoE.

5. When and where should I submit my application for designation?

a. MARAD will publish notifications in the Federal Register and on our website at the beginning of March each year seeking applications on or before June 1. This should provide applicants a minimum of 60 days to prepare and submit their applications.

Note: The first CoE application period is anticipated to occur sometime soon after the agency receives the required Office of Management and Budget information collection number. Accordingly, the first CoE application period to be noticed may occur outside the proposed March-June time frame.

b. An eligible training entity seeking designation as a CoE may submit applications, including all supporting information and documents, by email to CoEDMWTE@dot.gov or by mail addressed as follows: Department of Transportation, Maritime Administration, Deputy Associate Administrator for Maritime Education and Training, Attention: CoE Designation Program, 1200 New Jersey Ave. SE, Washington, DC 20590.

6. How will I know the outcome of my designation request application?

MARAD will notify each applicant of the status of their designation request. During the evaluation period, MARAD may request clarification or additional information from the applicant.

7. Does my CoE designation expire?

CoE designations are identified by year (e.g., X has been designated a Center of Excellence for Domestic Maritime Workforce Training and Education for 2020). Successful applicants can apply each year for designation.

How To Apply for a CoE Designation

8. What should be included in my CoE Designation Application?

Special Instructions: To assist MARAD in its review of your application and to ensure that your application is identified as complete, your institution should provide only concise and relevant information and supporting documentation to adequately demonstrate your eligibility and compliance with the statutory designation criteria. To that end, MARAD encourages your institution to ensure that each responsive section and each page of any document or enclosure in your application clearly references the question number(s) and section(s) listed in this guidance and or the statute. See the below examples:

Example 1. “Mar Ex” is eligible for the CoE program as a community college. (Q10, Section I(c)). Please find enclosed our Articles of Incorporation, Certificate of Status, State supervision and validation document. (Q10, Section I(c)(1-3).

Example 2. “Mar Ex” is enclosing the following supporting documents to demonstrate that our Maritime Training Center offers Afloat Track programs and that we are State accredited. (Q10, Section I(e)(2)): U.S. Department of Education Accrediting Agency XYZ accreditation (Q10, Section I(e)(2)(i)).

Information To Include in Your Application

Including the following information will greatly assist our review process:

a. Letter applying for CoE designation from the Chief Executive of the applicant institution.

b. Applicant contact information

1. Legal name of applicant institution and address.

2. Chief executive's name, position title, address, phone number(s) and email.

3. Points of contact (POC) name(s), position titles, phone number(s), emails.

c. Indicate if the applicant institution is claiming eligibility for the CoE program as a “Community or Technical College” or “Maritime Training Center”, and submit the following supporting information and documents:

1. Charter, Articles of Incorporation, Certificate of Incorporation, or equivalent, if applicable.

2. Certificate of Status (also known as Certificate of Existence or Certificate of Good Standing), a document issued by a state official (usually the Secretary of State), if applicable.

3. State operation or State supervision validation documents, if applicable.

4. Non-Profit certification, if applicable.

5. Accreditation approval letter(s) from an accrediting agency(ies).

6. Approval letter from a State Apprenticeship Agency (SAA) in accordance with 29 CFR part 29, if applicable.

7. Approval letter from the State's Department of Education or equivalent State agency, if applicable.

8. Approval letter from the United States Coast Guard (USCG), if applicable.

9. ISO 9001 or other quality management certification (Maritime Training Centers only), if applicable.

10. Data and statistics to demonstrate institutional effectiveness. This should include, but not be limited to, recruitment data, past/current enrollment (trends), attrition rates, student program completion data, and post-program job and placement statistics (to the extent available to the institution), and program effectiveness feedback from students, faculty, alumni, and other stakeholders.

d. Indicate that the applicant offers one or more Afloat Career preparation tracks and/or one or more Ashore Career preparation tracks in the United States Maritime Industry and submit the following supporting information:

1. Program summary;

2. A description of applicable courses offered (only relevant maritime related program-specific pages from the catalogue);

3. If applicable, letters of authorization and/or endorsement of the course/program and/or course(s) by an applicable professional society or industry body (including, but not limited to Welding, Electrician, Electronics, Maritime Construction, Maritime Logistics, Maritime Systems, etc.) to issue industry accepted certifications that reflect a professionally recognized level of educational or technical skill achievement; and

4. Any other relevant supporting documentation.

Note: Applicant institutions offering both Ashore and Afloat Career tracks are encouraged to submit supporting information for both tracks.

e. Applicant institutions offering Afloat Career and/or Ashore Career tracks should indicate that they have satisfied accreditation requirements, as set forth below:

1. “Community and Technical Colleges” hold current accreditation of the institution from a Regional Accreditation Agency or a Nationally Recognized Agency on the list of Accrediting Agencies approved by the U.S. Department of Education.

2. “Maritime Training Centers” hold current accreditation—

i. either of the institution from a Regional Accreditation Agency or a Nationally Recognized; Agency on the list of Accrediting Agencies approved by the U.S. Department of Education; or

ii. of the maritime training program offered by the institution from one or more of the following:

A. A State Apprenticeship Agency (SAA) in accordance with 29 CFR part 29, or

B. the State's Department of Education or equivalent State agency, or

C. the United States Coast Guard (USCG), if applicable; or

D. other appropriate external review body which is specifically authorized to review and validate post-secondary education programs and is acceptable to MARAD.

f. All applicant institutions may submit a brief narrative statement for one or more qualitative attributes fostered by the institution to accomplish the following:

1. Support the workforce needs of the local, state, or regional economy;

2. Build the STEM (Science, Technology, Engineering, and Math) competencies of local/future workforce to meet emerging local, regional, and national economic interests;

3. Promote diversity and inclusion among the student body;

4. Offer a broad-based curriculum and stackable credentials, where applicable;

5. Engage and/or collaborate with the maritime industry, including, but not limited to employers, associations, and other industry organizations or partners;

6. Engage and/or collaborate with employer-led maritime training practices and programs through Sector Partnerships as authorized in the 2014 Workforce Innovation and Opportunity Act Section 3(26);

7. Engage and/or collaborate with local and regional maritime high schools with maritime, maritime related, Career Technical Education (CTE) or STEM programs;

8. Engage and/or collaborate with maritime academies and other institutions or organizations for advanced proficiency and higher education;

9. Conduct other significant domestic maritime workforce development related activities.

g. All applicant institutions may provide any relevant endorsements, awards, recognition and significant accomplishments in support of their application.

Specific Issues for Comment

In addition to seeking general comments on the above proposed new policy, the agency is requesting public comment on the following issues:

1. Whether the proposed policy is clear, appropriate and adequate?

2. Whether CoE designation will enhance the maritime industry's ability to identify workforce resource opportunities;

3. Whether and to what extent the proposed application process is overly burdensome and how it may be simplified; and

4. Whether the proposed process raises specific legal or practical issues for the program participant or the maritime industry, the specific nature of those issues, and how such issues might be addressed by MARAD.

Policy Analysis and Notices

Consistent with the Administrative Procedures Act and Department of Transportation rulemaking policy, MARAD is publishing this guidance as a proposed policy in the Federal Register to indicate how it plans to exercise the discretionary authority provided by Section 3507 of the National Defense Authorization Act of 2018, Public Law 115-91 (December 12, 2017). Nothing in this notice or in the proposed policy itself requires MARAD to exercise its discretionary authority under 46 U.S.C. 54102. This proposed policy would establish a voluntary program in which successful applicants may be designated as a Center of Excellence for Domestic Maritime Workforce Training and Education (CoE).

Paperwork Reduction Act

This proposed policy would establish a new requirement for the collection of information for all program participants. The Office of Management and Budget (OMB) will be requested to review the information collection requirements under the Paperwork Reduction Act of 1995 (44 U.S.C. Section 3501, et seq.).

In accordance with the Paperwork Reduction Act, this document announces MARAD's intentions to request public comments regarding the collection of information arising under this proposed policy.

Copies of this notice and information collection request may be obtained from the Office of Security, MAR-420, Suite W25-308, 1200 New Jersey Avenue SE, Washington, DC 20590.

Title of Information Collection: Centers of Excellence for Domestic Maritime Workforce Training and Education Program.

OMB Control Number: Pending.

Form Number: None.

Expiration Date of Approval: Three years following approval by the Office of Management and Budget.

Summary of Collection of Information: Entities seeking to obtain designation as a Center of Excellence for Domestic Maritime Workforce Training and Education (CoE). Entities seeking CoE designation must submit certain information described in the proposed policy and application procedures. No form is required to make a submission. However, all information described in the application procedures will be required to be submitted as described therein and is necessary for the proper review of the applicant's qualifications.

Need for and Use of the Information: The information collected will be used to analyze whether applicants have the qualifications to meet the programmatic requirements of Section 3507 of the National Defense Authorization Act, 2018. This policy is necessary to establish an understanding between MARAD and the applicant/training entity that certain terms must be met to hold a CoE designation. Without this information, MARAD would not be able to offer the benefit of its CoE designation program to applicants. In addition, CoE designation will facilitate the training and education of a domestic maritime workforce essential to meeting the nation's current and projected economic and national security needs.

Description of Respondents: As defined by statute, Community Colleges, Technical Colleges and certain Maritime Training Centers with a maritime training program in operation on December 12, 2017.

Annual Responses: Once the Program is implemented, the agency anticipates between 75-100 submissions each year. Designation is a one-time event identified by year. However, the agency does anticipate the collection of information annually from the same estimated number of training entities seeking annual designation.

Annual Burden: 24 hours per program participant.

(Authority: The National Defense Authorization Act of 2018, Pub. L. 115-91 (December 12, 2017), 46 U.S.C. 54102)

* * *

Dated: July 16, 2019.
By Order of the Maritime Administrator.
T. Mitchell Hudson, Jr.,
Secretary, Maritime Administration.

[FR Doc. 2019-15406 Filed 7-18-19; 8:45 am]

BILLING CODE 4910-81-P